INTERNATIONAL TRADE COMMISSION

[USITC SE-13-037]

Sunshine Act Meeting Notice; Change of Date and Time of Sunshine Act Meeting

AGENCY HOLDING THE MEETING: United States International Trade Commission.

ORIGINAL DATE AND TIME: December 10, 2013 at 11:00 a.m.

NEW TIME: December 11, 2013 at 12:00 p.m.

PLACE: Room 101, 500 E Street SW., Washington, DC 20436, Telephone: (202) 205-2000.

STATUS: Open to the public.

In accordance with 19 CFR 201.35(d)(1), the Commission hereby gives notice that the meeting originally scheduled for December 10, 2013 at 11:00 a.m. has been rescheduled for December 11, 2013 at 12:00 p.m.

In accordance with Commission policy, subject matter listed above, not disposed of at the scheduled meeting, may be carried over to the agenda of the following meeting. Earlier notification of this change was not possible.

By order of the Commission.
Issued: December 11, 2013.
William R. Bishop,
Supervisory Hearings and Information Officer.

[FR Doc. 2013-29908 Filed 12-12-13; 11:15 am]

BILLING CODE 7020-02-P